DEPARTMENT OF COMMERCE

Foreign-Trade Zones Board

[B-76-2019]

Foreign-Trade Zone (FTZ) 27—Boston, Massachusetts; Authorization of Production Activity; Waters Technologies Corporation (Chromatography Tubing Assemblies), Milford, Massachusetts

On December 13, 2019, Waters Technologies Corporation submitted a notification of proposed production activity to the FTZ Board for its facility within FTZ 27, in Milford, Massachusetts.

The notification was processed in accordance with the regulations of the FTZ Board (15 CFR part 400), including notice in the Federal Register inviting public comment (84 FR 70932, December 26, 2019). On April 13, 2020, the applicant was notified of the FTZ Board's decision that no further review of the activity is warranted at this time. The production activity described in the notification was authorized, subject to the FTZ Act and the FTZ Board's regulations, including Section 400.14.

Dated: April 13, 2020.
Andrew McGilvray,
Executive Secretary.

[FR Doc. 2020-08013 Filed 4-15-20; 8:45 am]

BILLING CODE 3510-DS-P